DEPARTMENT OF ENERGY

Federal Energy Regulatory Commission

Combined Notice of Filings

August 15, 2014.

Take notice that the Commission has received the following Natural Gas Pipeline Rate and Refund Report filings:

Filings Instituting Proceedings

Docket Numbers: RP14-1179-000.

Applicants: Carolina Gas Transmission Corporation.

Description: 08132014 Cleanup Tariff Filing to be effective 9/12/2014.

Filed Date: 8/13/14.

Accession Number: 20140813-5130.

Comments Due: 5 p.m. ET 8/25/14.

Docket Numbers: RP14-1180-000.

Applicants: Rockies Express Pipeline LLC.

Description: Neg Rate 2014-08-13 Encana to be effective 8/13/2014.

Filed Date: 8/13/14.

Accession Number: 20140813-5143.

Comments Due: 5 p.m. ET 8/25/14.

Docket Numbers: RP14-1181-000.

Applicants: Northern Natural Gas Company.

Description: 20140814 ILD Modifications to be effective 9/30/2014.

Filed Date: 8/14/14.

Accession Number: 20140814-5119.

Comments Due: 5 p.m. ET 8/26/14.

Docket Numbers: RP14-1182-000.

Applicants: Texas Eastern Transmission, LP.

Description: Correction Filing RP14-402-000 to be effective 2/7/2014.

Filed Date: 8/14/14.

Accession Number: 20140814-5141.

Comments Due: 5 p.m. ET 8/26/14.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: CP13-125-001.

Applicants: Columbia Gas Transmission, LLC.

Description: Amendment to Application of Columbia Gas Transmission, LLC.

Filed Date: 7/31/14.

Accession Number: 20140731-5101.

Comments Due: 5 p.m. ET 8/19/14.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2014-20402 Filed 8-26-14; 8:45 am]

BILLING CODE 6717-01-P